EXECUTIVE OFFICE OF THE PRESIDENT

Office of National Drug Control Policy

Designation of Six Areas as High Intensity Drug Trafficking Areas

AGENCY: Office of National Drug Control Policy (ONDCP).

ACTION: Notice of six HIDTA designations.

SUMMARY: The Director of the Office of National Drug Control Policy designated six additional areas as High Intensity Drug Trafficking Areas (HIDTA).. The new areas are (1) Daviess County in Kentucky as part of the Appalachia HIDTA; (2) El Dorado and Placer Counties in California as part of the Central Valley California HIDTA; (3) Madison and St. Clair Counties in Illinois as part of the Midwest HIDTA; and (4) Erie County in Pennsylvania as part of the Ohio HIDTA.

FOR FURTHER INFORMATION CONTACT: Questions regarding this notice should be directed to Shannon L. Kelly, National HIDTA Director, Office of National Drug Control Policy, Executive Office of the President, Washington, DC 20503; (202) 395-5872.

Dated: May 18, 2021.
Robert Kent,
General Counsel.

[FR Doc. 2021-10852 Filed 5-21-21; 8:45 am]

BILLING CODE 3280-F5-P